DEPARTMENT OF LABOR

Office of the Secretary

Submission for OMB Review; Comment Request

August 6, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 693-4158 or e-mail Howze-Marlene@dol.gov.

Comments should be sent to Office of Information and Regulatory Affairs, OMB Desk Officer for ESA, Office of Management and Budget, Room 10235, Washington, DC 20503 (202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Labor Organization and Auxiliary Reports.

OMB Number: 1215-0188.

Affected Public: Not-for-profit institutions; Business or other for-profit; and Individuals or households.

Frequency: Semi-annually and Annually.

Estimated Time Per Response and Total Burden Hours
Form name | Responses/respondents | Hours per respondent (reporting) | Burden hours (reporting) | Minutes per respondent (record-keeping) | Burden hours (record-keeping) | Total burden hours
LM-1 | 253 | 0.83 | 210 | 5 | 21 | 231
LM-2 | 5,932 | 14.75 | 87,497 | 30 | 2,966 | 90,463
LM-3 | 12,722 | 6.5 | 82,693 | 15 | 3,181 | 85,874
LM-4 | 8,108 | 0.83 | 6,730 | 2 | 270 | 7,000
LM-10 | 116 | 0.50 | 58 | 5 | 10 | 68
LM-15 | 427 | 1.50 | 641 | 20 | 142 | 783
LM-15A | 71 | 0.33 | 23 | 2 | 2 | 25
LM-16 | 110 | 0.33 | 36 | 1 | 2 | 38
LM-20 | 231 | 0.33 | 76 | 2 | 8 | 84
LM-21 | 36 | 0.50 | 18 | 5 | 3 | 21
LM-30 | 139 | 0.50 | 70 | 5 | 12 | 82
S-1 | 82 | 0.50 | 41 | 5 | 7 | 48
SARF * | 2,142 | 0.17 | 364 | 2 | 71 | 435
Total | 30,369 |  | 178,457 |  | 6,695 | 185,152
* Simplified Annual Report Format.

Total Annualized Capital/Startup Costs: $0.

Total Annual Cost (operating/maintaining systems or purchasing services): $0.

Description: The Labor-Management Reporting and Disclosure Act (LMRDA) requires unions to file annual financial reports, and copies of their constitution and bylaws with the Department of Labor (DOL). Under certain circumstances, reports are required of union officers and employees, employers, labor relations consultants, and surety companies. Filers are required to retain supporting records for five years; unions are required to retain election records for one year. All reports are available for public disclosure. Information supplied on the reports may be utilized by union members to help self-govern their unions, by the general public, and as research material for both outside researches and within DOL. The information is also used to assist DOL and other government agencies in detecting improper practices on the part of labor organizations, their officers and/or representatives, and is used by Congress in oversight and legislative functions. The following is a list of the reporting forms contained in this information collection and their regulatory and legislative citations: LM-1, Labor Organization Information Report, 29 CFR 402, 29 U.S.C. 431(a); LM-2, Labor Organization Annual Report, 29 CFR 402.5 and 403.3; 29 U.S.C. 431(b); LM-3, Labor Organization Annual Report, 29 CFR 402.5 and 403.4; 29 U.S.C. 431(b); LM-4, Labor Organization Annual Report, 29 CFR 402.5 and 403.4; 29 U.S.C. 431(b); LM-10, Employer Report, 29 CFR part 405, 29 U.S.C. 433(a); LM-15, Trusteeship Report, 29 CFR part 408, 29 U.S.C. 461; LM-15A, Report on Selection of Delegates and Officers, 29 CFR part 408, 29 U.S.C. 461; LM-16, Terminal Trusteeship Report, 29 CFR part 408, 29 U.S.C. 461; LM-20, Agreement and Activities Report, 29 CFR part 406, 29 U.S.C. 433(b); LM-21, Receipts and Disbursements Report, 29 CFR part 406, 29 U.S.C. 433(b); LM-30, Labor Organization Officer and Employee Report, 29 CFR part 404, 29 U.S.C. 432; S-1, Surety Company Annual Report, 29 CFR part 409, 29 U.S.C. 441; and Simplified Annual Report Format, 29 CFR part 403, 29 U.S.C. 431(b).

Ira L. Mills,
Departmental Clearance Officer.

[FR Doc. 02-21090 Filed 8-19-02; 8:45 am]

BILLING CODE 4510-CP-M